DEPARTMENT OF VETERANS AFFAIRS

[OMB Control No. 2900-NEW]

Proposed Information Collection (Principles of Excellence Complaint Intake Questionnaire) Activity; Withdrawal

AGENCY: Veterans Benefits Administration, Department of Veterans Affairs.

ACTION: Notice; withdrawal.

SUMMARY: The Department of Veterans Affairs (VA) published a notice in a Federal Register on April 30, 2013 (78 FR 25359), inviting the public to comment on a proposed information collection titled “Principles of Excellence Complaint Intake Questionnaire, VA Form 22-0959”. This document withdraws that notice. However, VA plans to republish a revised notice for this information collection to seek approval to collect the information electronically by leveraging the systems architecture of the Department of Defense's Complaint System.

FOR FURTHER INFORMATION CONTACT: Crystal Rennie, Enterprise Records Service (005R1B), Department of Veterans Affairs, 810 Vermont Avenue NW., Washington, DC 20420, at (202) 632-7492.

FR Doc. 2013-10112, published on April 30, 2013 (78 FR 25359), is withdrawn by this notice.

Dated: August 22, 2013.
Crystal Rennie,
VA Clearance Officer, U.S. Department of Veterans Affairs.

[FR Doc. 2013-20842 Filed 8-26-13; 8:45 am]

BILLING CODE 8320-01-P